NATIONAL CREDIT UNION ADMINISTRATION

Sunshine Act Meetings

TIME AND DATE: 10:00 a.m., Friday, March 21, 2025.

PLACE: Board Room, 7th Floor, Room 7B, 1775 Duke Street, Alexandria, VA 22314-3428.

STATUS: Closed.

NCUA Board unanimously determined that agency business required holding a closed meeting with less than seven days' notice to the public, and that no earlier notice of the meeting was possible.

MATTER TO BE CONSIDERED: 1. Personnel. Closed pursuant to Exemption (2).

CONTACT PERSON FOR MORE INFORMATION: Melane Conyers-Ausbrooks, Secretary of the Board, Telephone: 703-518-6304.

Melane Conyers-Ausbrooks,
Secretary of the Board.

[FR Doc. 2025-05087 Filed 3-21-25; 11:15 am]

BILLING CODE 7535-01-P